DEPARTMENT OF COMMERCE

Census Bureau

Census Coverage Measurement Person Followup Interview and Person Followup Reinterview Operations

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 6, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Magdalena Ramos, U.S. Census Bureau, Building 2, Room 2126, Washington, DC 20233-9200, 301-763-4295.

SUPPLEMENTARY INFORMATION:

I. Abstract

In preparation for the 2010 Census, the U.S. Census Bureau will conduct a Census Coverage Measurement (CCM) test as part of the 2006 Census Test. The 2006 CCM operations will occur in Travis County, Texas; and on the Cheyenne River Reservation in South Dakota. The purpose of the 2006 CCM test is not to measure the coverage of the 2006 Census Test per se, but rather to test ways of improving previous coverage measurement methods. In particular, the focus of the 2006 CCM test is to test improved matching operations and data collection efforts designed to obtain more accurate information about where a person should have been enumerated according to our residence rules.

This focus is motivated by: (1) Problems encountered with coverage measurement in Census 2000 in determining a person's residence (relative to our residence rules), (2) the significant number of duplicate enumerations in Census 2000, and (3) expanded goals for coverage measurement in the 2010 Census. The latter refers to our objective of producing, for the first time, separate estimates of coverage error components—omissions and erroneous inclusions including duplicates (see Definition of Terms). The data collection and matching methodologies for previous coverage measurement programs were designed only to measure net coverage error, which reflects the difference between omissions and erroneous inclusions (see Definition of Terms). In order to produce separate estimates of these coverage error components, we need to develop and test changes to our data collection and matching methods. In particular, the CCM efforts will focus on ways to obtain better information about addresses where people should have, and could have, been enumerated during the census.

The 2006 CCM test will be comprised of two overlapping samples, a population sample (P sample) and a sample of census records. The P sample will be obtained by independently rostering persons in housing units within the CCM sampled block clusters. The independent roster is obtained during the CCM Person Interview (PI), the results of which will be matched to census enumerations in the sample blocks, in surrounding blocks and across the entire site. A separate Federal Register notice was previously published describing the PI operations. After the CCM PI and matching operations have taken place, some cases will receive the CCM Person Followup (PFU) interview. Generally, these will be cases where additional information is needed to determine residence status or where inconsistencies were observed during the matching operations. We also will conduct a quality control operation of the PFU called the Person Followup Reinterview (PFURI).

II. Method of Collection

After the CCM Person Interview and the initial person matching operations are complete, the cases requiring a PFU interview will be identified. The estimated workload for the PFU is approximately 2,000 cases in Travis County, Texas; and 200 cases on the Cheyenne River Reservation in South Dakota. A sample of the PFU cases will be selected for Person Followup Reinterview (PFURI). This sample consists of approximately 200 cases in Travis County, Texas; and 20 cases on the Cheyenne River Reservation in South Dakota. The PFU and PFURI operations will be conducted from January 8, 2007 to February 3, 2007.

The PFU operation will use an interviewer-administered paper questionnaire. The questionnaire will contain the English version of the questionnaire on one side of the form and the Spanish version on the reverse side. The PFU questionnaire is designed to collect information to determine where a person should have been counted as of Census Day and as of the CCM PI date (relative to our residence rules). In order to clarify residence status, particularly for more complex living situations, the questionnaire will collect additional addresses where a person lived or stayed in 2006. The PFU questionnaire also will collect information to help determine if person records with similar names and data collected in the PI or the census actually refer to the same person. This includes both possible matches between the P sample and census enumerations and possible person duplications in the P sample or census enumerations.

The PFURI operation will use an interviewer-administered paper questionnaire to determine if the source of the PFU data (for example, a household member; a specific proxy respondent) can be confirmed. If the PFURI cannot confirm the source of the original PFU interview, then a PFURI interviewer will conduct a replacement PFU interview.

Definition of Terms

Components of Coverage Error—The two components of census coverage error are census omissions (missed persons) and erroneous inclusions. The latter includes duplicates and persons who should not have been enumerated at a particular address (per our residence rules).

Net Coverage Error—Reflects the difference between omissions and erroneous inclusions. A positive net error indicates an undercount, while a negative net error indicates an overcount.

For more information about Census 2000 coverage measurement efforts, please visit the following page of the Census Bureau's Web site: http://www.census.gov/dmd/www/refroom.html.

III. Data

OMB Number: None.

Form Number: DD-1301.

Type of Review: Regular.

Affected Public: Individuals or households.

Estimated Number of Respondents: 2420.

Estimated Times per Response: 20 minutes.

Estimated Total Annual Burden Hours: 807.

Estimated Total Annual Cost to the Public: There is no cost to the respondents except their time to respond.

Respondent Obligation: Mandatory.

Legal Authority: Title 13 of the United States Code, sections 141 and 193.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: December 27, 2005.
Madeleine Clayton,
Management Analyst, Office of the Chief Information Officer.

[FR Doc. E5-8158 Filed 12-30-05; 8:45 am]

BILLING CODE 3510-07-P